DEPARTMENT OF COMMERCE

International Trade Administration

[A-533-809]

Certain Stainless Steel Flanges from India; Extension of Time Limit of Preliminary Results of New Shipper Review

AGENCY: Import Administration, International Trade Administration, Department of Commerce.

SUMMARY: The Department of Commerce (the Department) is extending the time limit of the preliminary results of a new shipper review of certain stainless steel flanges from India. This review covers one Indian exporter, Metal Forgings Private Limited/ Metal Rings and Bearing Races Limited (Metal Forgings), and the period January 1, 2001 through July 31, 2001.

EFFECTIVE DATE: June 6, 2002.

FOR FURTHER INFORMATION CONTACT: Thomas Killiam or Robert James, AD/CVD Enforcement, Import Administration, International Trade Administration, U.S. Department of Commerce, 14th Street and Constitution Avenue, NW, Washington DC 20230; telephone: (202) 482-5222, or (202) 482-0649, respectively.

SUPPLEMENTARY INFORMATION:

Applicable Statute

Unless otherwise indicated, all citations to the statute refer to the provisions effective January 1, 1995, the effective date of the amendments made to the Tariff Act of 1930 (the Tariff Act) by the Uruguay Round Agreements Act. In addition, all citations to the Department's regulations are to the current regulations, codified at 19 CFR Part 351 (2001).

Background

Based on a request from Metal Forgings, and pursuant to section 351.214 of the Department's Regulations, on November 23, 2001, the Department initiated a new shipper review of the antidumping duty order on certain stainless steel flanges from India, covering the period January 1, 2000 through July 31, 2001 (66 FR 59568, November 29, 2001). The preliminary results are currently due no later than May 22, 2002.

Postponement of Preliminary Results

We have determined that we need additional information concerning the nature of respondent's home market merchandise, sales prices, and expenses, in order to make the calculations necessary for the preliminary results. Because of these unresolved issues, we consider this case to be extraordinarily complicated, and we are extending the time limit for completion of the preliminary results until September 19, 2002, in accordance with section 751(a)(2)(B)(iv) of the Tariff Act and section 351.214(i)(2) of the Department's regulations. The deadline for the final results of this review will continue to be 90 days after the date on which the preliminary results are issued, in accordance with 19 CFR 351.214(i)(1).

Dated: May 19, 2002
Joseph A. Spetrini,
Deputy Assistant Secretary Import Administration, Group III.

[FR Doc. 02-14233 Filed 6-5-02; 8:45 am]

BILLING CODE 3510-DS-S